ENVIRONMENTAL PROTECTION AGENCY

40 CFR Parts 85 and 86

DEPARTMENT OF TRANSPORTATION

National Highway Traffic Safety Administration

49 CFR Parts 523, 531, 533, 536, and 537

[NHTSA-2018-0067; EPA-HQ-OAR-2018-0283; FRL-9981-74-OAR]

RIN 2127-AL76; RIN 2060-AU09

The Safer Affordable Fuel-Efficient (SAFE) Vehicles Rule for Model Years 2021-2026 Passenger Cars and Light Trucks

AGENCY: National Highway Traffic Safety Administration (NHTSA) and Environmental Protection Agency (EPA).

ACTION: Announcement of public hearings.

SUMMARY: EPA and NHTSA are announcing public hearings to be held for the joint proposed “Safer Affordable Fuel-Efficient (SAFE) Vehicles Rule for Model Years 2021-2026 Passenger Cars and Light Trucks,” (SAFE Vehicles Rule) issued on August 2, 2018. NHTSA will also accept comment on NHTSA's Draft Environmental Impact Statement (Draft EIS), available on NHTSA's website at www.nhtsa.gov/corporate-average-fuel-economy/safe. Three hearings will be held, on September 24, September 25, and September 26, 2018. The agencies will assume that all oral comments presented at the hearing are addressed to the joint proposed rules only, unless speakers specifically reference NHTSA's Draft EIS in oral or written testimony.

DATES: NHTSA and EPA will jointly hold three public hearings on the following dates: September 24, 2018 in Fresno, California; September 25, 2018 in Dearborn, Michigan; and September 26, 2018 in Pittsburgh, Pennsylvania. The hearings will start at 10 a.m. local time and continue until 5:00 p.m. or until everyone has had a chance to speak. If you would like to present oral testimony at one of these public hearings, please contact the person identified under FOR FURTHER INFORMATION CONTACT, at least ten days before the hearing.

ADDRESSES: The September 24, 2018 hearing will be held at the The Grand 1401, 1401 Fulton Street, Fresno, California 93721. The September 25, 2018 hearing will be held at the Dearborn Inn, 20301 Oakwood Boulevard, Dearborn, Michigan 48124. The September 26, 2018 hearing will be held at the DoubleTree by Hilton Hotel & Suites Pittsburgh Downtown, One Bigelow Square, Pittsburgh, Pennsylvania 15219. The hearings will be held at sites accessible to individuals with disabilities.

FOR FURTHER INFORMATION CONTACT: If you would like to present oral testimony at a public hearing, please contact Kil-Jae Hong at NHTSA by the date specified under DATES, at kil-jae.hong@dot.gov. Please provide the following information: Name, affiliation, address, email address, telephone and fax numbers (if applicable), time you wish to speak (morning, afternoon) if there is a preference, and whether you require accommodations such as a sign language interpreter or translator.

Questions concerning the proposed rules should be addressed to NHTSA: James Tamm, Office of Rulemaking, National Highway Traffic Safety Administration, 1200 New Jersey Avenue SE, Washington, DC 20590. Telephone: (202) 493-0515. EPA: Chris Lieske, Office of Transportation and Air Quality, Assessment and Standards Division (ASD), Environmental Protection Agency, 2000 Traverwood Drive, Ann Arbor, MI 48105; telephone number: (734) 214-4584; fax number: (734) 214-4816; email address: lieske.christopher@epa.gov. You may learn more about the proposal by visiting NHTSA's or EPA's web pages at http://www.nhtsa.gov/corporate-average-fuel-economy/safe or https://www.epa.gov/regulations-emissions-vehicles-and-engines/safer-and-affordable-fuel-efficient-vehicles-proposed, or by searching the public dockets (NHTSA-2018-0067 (for the proposed rule) or NHTSA-2017-0069 (for the Draft EIS); EPA-HQ-OAR-2018-0283) at www.regulations.gov.

SUPPLEMENTARY INFORMATION: The purpose of the public hearings is to provide the public an opportunity to present oral comments regarding NHTSA and EPA's proposals for the SAFE Vehicles Rule. These hearings also offer an opportunity for the public to provide oral comments regarding NHTSA's Draft EIS, accompanying the proposed NHTSA fuel economy standards. The agencies will assume that all oral comments presented at the hearing are addressed to the joint proposed rules only, unless speakers specifically reference NHTSA's Draft EIS in oral or written testimony.

The SAFE Vehicles Rule, if finalized, would amend certain existing Corporate Average Fuel Economy (CAFE) and tailpipe carbon dioxide emissions standards for passenger cars and light trucks and establish new standards, all covering model years 2021 through 2026. More specifically, NHTSA is proposing new CAFE standards for model years 2022 through 2026 and amending its 2021 model year CAFE standards because they are no longer maximum feasible standards, and EPA is proposing to amend its carbon dioxide emissions standards for model years 2021 through 2025 because they are no longer appropriate and reasonable in addition to establishing new standards for model year 2026. The preferred alternative is to retain the model year 2020 standards (specifically, the footprint target curves for passenger cars and light trucks) for both programs through model year 2026, but comment is sought on a range of alternatives discussed throughout this document. Compared to maintaining the post-2020 standards set forth in 2012, current estimates indicate that the proposed SAFE Vehicles Rule would save over 500 billion dollars in societal costs and reduce highway fatalities by 12,700 lives (over the lifetimes of vehicles through MY 2029). U.S. fuel consumption would increase by about half a million barrels per day (2-3 percent of total daily consumption, according to the Energy Information Administration), emissions would increase by 7,400 million metric tons of carbon dioxide by 2100, and would impact the global climate by 3/1000th of one degree Celsius by 2100, also when compared to the standards set forth in 2012.

The proposal for which EPA and NHTSA are holding the public hearings was signed on August 2, 2018 and the pre-publication version is available at the web pages listed above under FOR FURTHER INFORMATION CONTACT and, also in the rulemaking dockets. NHTSA's Draft Environmental Impact Statement is available on NHTSA's web page and in NHTSA's docket for the EIS, both referenced above. We expect the official proposal to be published in the Federal Register soon. Please note that the pre-publication version of the proposal specified that the agencies would hold three public hearings in Washington DC, Detroit Michigan, and Los Angeles California, with details to be announced in a forthcoming Federal Register notice. The agencies have decided instead to hold three public hearings, in Fresno California, Dearborn, Michigan, and Pittsburgh Pennsylvania, as specified above in this notice. Once NHTSA and EPA learn how many people have registered to speak at each public hearing, we will allocate an appropriate amount of time to each participant, allowing time for necessary breaks. In addition, we will reserve a block of time for anyone else in the audience who wishes to give an oral presentation. For planning purposes, each speaker should anticipate speaking for approximately five minutes. We request that you bring three copies of your statement or other material for the EPA and NHTSA panels. To accommodate as many speakers as possible, we prefer that speakers not use technological aids (e.g., audio-visuals, computer slideshows). However, if you wish to do so, you must notify the contact persons in the FOR FURTHER INFORMATION CONTACT section above. You also must make arrangements to provide your presentation or any other aids to NHTSA and EPA in advance of the hearing in order to facilitate set-up.

NHTSA and EPA will conduct the hearings informally, and technical rules of evidence will not apply. We will arrange for a written transcript of each hearing and keep the official record of each hearing open for 30 days to allow speakers to submit supplementary information to the dockets listed above. Panel members may ask clarifying questions during the oral presentations, but will not respond to the presentations at that time. You may make arrangements for copies of the transcripts directly with the court reporter.

Written statements and supporting information submitted during the comment period will be considered with the same weight as oral comments and supporting information presented at the public hearings. To be assured of consideration, written comments on the proposal must be received by the date indicated in the Federal Register once the document publishes. Written comments on NHTSA's Draft EIS must be received or uploaded to NHTSA's docket for the EIS by September 24, 2018.

Raymond R. Posten,
Associate Administrator for Rulemaking, National Highway Traffic Safety Administration.
Amanda Gunasekara,
Principal Deputy Assistant Administrator for Air and Radiation, Environmental Protection Agency.

[FR Doc. 2018-18418 Filed 8-23-18; 8:45 am]

BILLING CODE 4910-59-P